DEPARTMENT OF DEFENSE

Office of the Secretary

[Transmittal No. 23-0Y]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0Y.

Dated: December 17, 2024.
Stephanie J. Bost,
Alternate OSD Federal Register Liaison Officer, Department of Defense.

BILLING CODE 6001-FR-P

BILLING CODE 6001-FR-C

Transmittal No. 23-0Y

Report of Enhancement or Upgrade of Sensitivity of Technology or Capability (Sec. 36(B)(5)(C), AECA)

(i) Purchaser: Government of Finland

(ii) Sec. 36(b)(1), AECA Transmittal No.: 23-53

Date: August 1, 2023

Implementing Agency: Army

(iii) Description: On August 1, 2023, Congress was notified by Congressional certification transmittal number 23-53, of the possible sale, under Section 36(b)(1) of the Arms Export Control Act, of the M270A2 upgrade of M270A1 Multiple Launch Rocket Systems (MLRS). The upgrade includes intercom systems; radio communication mounts; machine gun mounts; battle management system vehicle integration kit; publications for MLRS; spares; services; support equipment; and other related elements of program and logistics support. Major Defense Equipment (MDE) constituted $0 of this total.

This transmittal notifies an increase in non-MDE value by $180 million, resulting in a new estimated non-MDE and overall total case value of $575 million. There is no MDE included in this potential sale.

(iv) Significance: Recent cost increases have brought about the need to add value to the original notification. The upgraded M270A2 MLRS will give Finland additional advanced capability to address current and future regional threats; reinforcing its ability to maintain regional stability, increasing Finland's security. The sale supports United States (U.S.) national security interests by bolstering the land defense in Europe's northern flank.

(v) Justification: This proposed sale will support the foreign policy and national security of the U.S. by improving the security of a North Atlantic Treaty Organization Ally that is an important force for political stability and economic progress in Europe.

(vi) Sensitivity of Technology: The Sensitivity of Technology statement contained in the original notification applies to items reported here.

(vii) Date Report Delivered to Congress: December 18, 2023

[FR Doc. 2024-30633 Filed 12-23-24; 8:45 am]

BILLING CODE 6001-FR-P